U.S. COMMISSION ON CIVIL RIGHTS

Hearing on Education Accountability

AGENCY: Commission on Civil Rights.

ACTION: Notice of hearing.

SUMMARY: Notice is hereby given pursuant to the provisions of the Civil Rights Commission Amendments Act of 1994, section 3, Pub. L. 103-419, 108 Stat. 4338, as amended, and 45 CFR section 702.3, that a public documents production hearing before the U.S. Commission on Civil Rights will take place on Friday, January 11, 2002, beginning at 9:30 a.m., in the Monroe Room, at the Washington Hilton Hotel, 1919 Connecticut Avenue, NW., Washington, DC 20009. The purpose of the hearing is to collect information within the jurisdiction of the Commission, under 45 CFR section 702.2, related particularly to state efforts to institute standards-based education systems, and the review of educational accountability methods and associated statistics and consequences.

The Commission is authorized to hold hearings and to issue subpoenas for the production of documents and the attendance of witnesses pursuant to 45 CFR section 701.2(c). The Commission is an independent bipartisan, factfinding agency authorized to study, collect, and disseminate information, and to appraise the laws and policies of the Federal Government, and to study and collect information with respect to discrimination or denials of equal protection of the laws under the Constitution because of race, color, religion, sex, age, disability, or national origin, or in the administration of justice.

Hearing impaired persons who will attend the hearing and require the services of a sign language interpreter, should contact Betty Edmiston, Administrative Services and Clearinghouse Division at (202) 376-8105 (TDD (202) 376-8116), at least five (5) working days before the scheduled date of the hearing.

FOR FURTHER INFORMATION CONTACT: Les Jin, Staff Director (202) 376-7700.

Dated: November 20, 2001.
Michael L. Foreman,
Acting Deputy General Counsel.

[FR Doc. 01-29508 Filed 11-27-01; 8:45 am]

BILLING CODE 6335-01-M